ENVIRONMENTAL PROTECTION AGENCY

[EPA-HQ-OECA-2013-0338; FRL-10001-64-OMS]

Information Collection Request Submitted to OMB for Review and Approval; Comment Request; NESHAP for the Manufacture of Amino/Phenolic Resins (Renewal)

AGENCY: Environmental Protection Agency (EPA).

ACTION: Notice.

SUMMARY: The Environmental Protection Agency (EPA) has submitted an information collection request (ICR), NESHAP for the Manufacture of Amino/Phenolic Resins (EPA ICR Number 1869.10, OMB Control Number 2060-0434) to the Office of Management and Budget (OMB) for review and approval in accordance with the Paperwork Reduction Act. This is a proposed extension of the ICR, which is currently approved through January 31, 2020. Public comments were previously requested via the Federal Register on May 6, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before November 29, 2019.

ADDRESSES: Submit your comments, referencing Docket ID Number EPA-HQ-OECA-2013-0338, to (1) EPA online using www.regulations.gov (our preferred method), by email to docket.oeca@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Abstract: The National Emission Standards for Hazardous Air Pollutants (NESHAP) for the regulations published at 40 CFR part 63, subpart OOO were proposed on December 14, 1998, promulgated on January 20, 2000, and amended on April 20, 2006, October 8, 2014, and October 15, 2018. These regulations apply to existing facilities and new facilities that engage in the manufacture of amino/phenolic resins with HAP emissions points that include: (1) Reactor batch process vents; (2) nonreactor batch process vents; (3) continuous process vents; (4) equipment leaks; (5) wastewater; (6) storage vessels; and (7) heat exchangers. New facilities include those that commenced construction or reconstruction after the date of proposal of the 2014 rule amendment. This information is being collected to assure compliance with 40 CFR part 63, subpart OOO.

The October 15, 2018 amendments (83 FR 51842) responded to petitions for reconsideration regarding the NESHAP rule revisions that were promulgated on October 8, 2014 and revised the standards for continuous process vents (CPVs) at existing affected sources, revised the requirements for storage vessels at new and existing sources during periods when an emission control system used to control vents on fixed roof storage vessels is undergoing planned routine maintenance, and included minor technical corrections to improve rule clarity. This renewal incorporates revised costs and burden from activities from these final rule amendments.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Facilities that manufacture amino/phenolic resins.

Respondent's obligation to respond: Mandatory (40 CFR part 63, subpart OOO).

Estimated number of respondents: 19 (total).

Frequency of response: Initially, occasionally, and semiannually.

Total estimated burden: 23,300 hours (per year). Burden is defined at 5 CFR 1320.3(b).

Total estimated cost: $4,910,000 (per year), which includes $2,210,000 annualized capital or operation & maintenance costs.

Changes in the Estimates: There is an increase in burden from the most recently approved ICR. This renewal incorporates revised costs and burden from activities applicable to a subset of facilities with storage tanks or continuous process vents, which includes recordkeeping, reporting and monitoring requirements. There is an increase in the annual O&M costs for facilities with RTOs for control of continuous process vents.

Courtney Kerwin,
Director, Regulatory Support Division.

[FR Doc. 2019-23618 Filed 10-29-19; 8:45 am]

BILLING CODE 6560-50-P